ENVIRONMENTAL PROTECTION AGENCY

[EPA-HQ-OPP-2006-0023; FRL-8079-1]

Notice of Filing of a Pesticide Petition for Establishment of an Exemption from the Requirement of a Tolerance for Residues of Sodium Chlorite/Chlorine Dioxide in or on Various Food and Feed Commodities; Correction

AGENCY: Environmental Protection Agency (EPA).

ACTION: Notice; correction.

SUMMARY: EPA issued a notice in the Federal Register of June 7, 2006, announcing the initial filing of a pesticide petition proposing the establishment of an exemption from the requirement of a tolerance for residues of sodium chlorite/sulfur dioxide [sic] in or on wheat/barley/oats (grain, straw), and wheat (aspirated grain fractions) food and feed commodites. This document is being issued to correct the chemical name that was misrepresented in the document.

FOR FURTHER INFORMATION CONTACT: Bryant Crowe, Registration Division (7505P), Office of Pesticide Programs, Environmental Protection Agency, 1200 Pennsylvania Ave., NW., Washington, DC 20460-0001; telephone number: (703) 305-0025; e-mail address: crowe.bryant@epa.gov.

SUPPLEMENTARY INFORMATION:

I. General Information

A. Does this Action Apply to Me?

The Agency included in the June 7, 2006 notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPPT-2006-0023. Publicly available docket materials are available either in the electronic docket at http://www.regulations.gov, or, if only available in hard copy, at the Office of Pesticide Programs (OPP) Regulatory Public Docket in Rm. S-4400, One Potomac Yard (South Bldg.), 2777 S. Crystal Drive, Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr/.

II. What Does this Correction Do?

FR Doc. E6-8718 published in the Federal Register of June 7, 2006 (71 FR 32952) (FRL-8065-5), is corrected as follows:

1. On page 32952, second column, in the heading, the chemical name “Sodium Chlorite/Sulfur Dioxide” is corrected to read “Sodium Chlorite/Chlorine Dioxide.”

2. On page 32952, second column, in the SUMMARY, the chemical name “sodium chlorite/sulfur dioxide” is corrected to read “sodium chlorite/chlorine dioxide.”

3. On page 32953, second column, under the heading “New Exemption from Tolerance,” fifth line, the chemical name “sodium chlorite/sulfur dioxide” is corrected to read “sodium chlorite/chlorine dioxide.”

List of Subjects

Environmental protection, Agricultural commodities, Feed additives, Food additives, Pesticides and pests, Reporting and recordkeeping requirements.

Dated: July 19, 2006.
Lois Rossi,
Director, Registration Division, Office of Pesticide Programs.

[FR Doc. E6-12052 Filed 7-26-06; 8:45 am]

BILLING CODE 6560-50-S